DEPARTMENT OF DEFENSE

Office of the Secretary

[Docket ID: DOD-2018-OS-0004]

Proposed Collection; Comment Request

AGENCY: Office of the Assistant Secretary of Defense for Manpower and Reserve Affairs, DoD.

ACTION: Information collection notice.

SUMMARY: In compliance with the Paperwork Reduction Act of 1995, the Office of the Assistant Secretary of Defense for Manpower and Reserve Affairs announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 23, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Deputy Assistant Secretary of Defense for Military Personnel Policy, ATTN: Accession Policy (3D1066), 1500 Defense Pentagon, Washington, DC 20301-1500, or call 703-695-5525.

SUPPLEMENTARY INFORMATION:

Title; Associated Form; and OMB Number: Record of Military Processing—Armed Forces of the United States; DD Form 1966; OMB Control Number 0704-0173.

Needs and Uses: The information collection requirement is necessary to comply with regulations in accordance with Title 10 U.S.C., Sections 504, 505, 508, 12102; Title 14 U.S.C., Sections 351 and 632; and 50 U.S.C. Appendix Section 451, which requires applicants to meet standards for enlistment into the Armed Forces. This information collection is the basis for determining eligibility of applicants for enlistment in the Armed Forces and is needed to verify data given by the applicant and to determine his/her qualification of enlistment. The information collected aids in the determination of qualifications, term of service, and grade in which a person, if eligible, will enter active duty or reserve status.

Affected Public: Individuals or households.

Annual Burden Hours: 141,000 hours.

Number of Respondents: 423,000

Responses per Respondent: 1.

Annual Responses: 423,000.

Average Burden per Response: 20 minutes.

Frequency: On occasion.

Respondents are individuals applying to serve in the United States Armed Forces. The primary purpose of this information collection is to gather the necessary data for determining eligibility in the Armed Forces and for establishing personnel records on those enlisted. The DD Form 1966 is the main source document for military enlistment or continued military service records. The information collected is used to feed other DoD and service-specific forms that later would be used to issue identification cards and receive benefits associated with military service.

Dated: February 13, 2018.
Aaron Siegel,
Alternate OSD Federal Register Liaison Officer, Department of Defense.

[FR Doc. 2018-03290 Filed 2-16-18; 8:45 am]

BILLING CODE 5001-06-P